DEPARTMENT OF TRANSPORTATION

Federal Aviation Administration

[Docket No. FAA-2020-1158]

Agency Information Collection Activities: Requests for Comments; Clearance of a Renewed Approval of Information Collection: License Requirements for Operation of a Launch Site

AGENCY: Federal Aviation Administration (FAA), DOT.

ACTION: Notice and request for comments.

SUMMARY: In accordance with the Paperwork Reduction Act of 1995, FAA invites public comments about our intention to request the Office of Management and Budget (OMB) approval to renew an information collection. The information to be collected includes data required for performing launch site location analysis. The launch site license is valid for a period of 5 years. Respondents are licensees authorized to operate sites.

DATES: Written comments should be submitted by March 15, 2021.

ADDRESSES: Please send written comments:

By Electronic Docket: www.regulations.gov (Enter docket number into search field).

By mail: Charles Huet, 800 Independence Avenue SW, Room 331, Washington, DC 20591.

By fax: 202-267-5463.

FOR FURTHER INFORMATION CONTACT: Charles Huet by email at: Charles.huet@faa.gov; phone: 202-267-7427.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0644.

Title: License Requirements for Operation of a Launch Site.

Form Numbers: There are no FAA forms associated with this collection.

Type of Review: Renewal of an information collection.

Background: The data requested for a license application to operate a commercial launch site are required by 49 U.S.C. Subtitle IX, 701—Commercial Space Launch Activities, 49 U.S.C. 70101-70119 (1994). The information is needed in order to demonstrate to the FAA Office of Commercial Space Transportation (FAA/AST) that the proposed activity meets applicable public safety, national security, and foreign policy interest of the United States.

Respondents: Approximately 2 applicants.

Frequency: Information is collected on occasion.

Estimated Average Burden per Response: 2,322 hours.

Estimated Total Annual Burden: 4,644 hours.

Issued in Washington, DC.
Kelvin Coleman,
Deputy Associate Administrator, Commercial Space Transportation, Federal Aviation Administration.

[FR Doc. 2021-00482 Filed 1-12-21; 8:45 am]

BILLING CODE 4910-13-P